ENVIRONMENTAL PROTECTION AGENCY

[ER-FRL-6634-3]

Environmental Impact Statements; Notice of Availability

Responsible Agency: Office of Federal Activities, General Information (202) 564-7167 or http://www.epa.gov/compliance/nepa/.

Weekly receipt of Environmental Impact Statements filed October 14, 2002 through October 18, 2002 pursuant to 40 CFR 1506.9.

EIS No. 020428, Final EIS, DOE, NV, Geologic Repository for the Disposal of Spent Nuclear Fuel and High-Level Radioactive Waste, Construction, Operation, Monitoring and Eventually Closing a geologic repository at Yucca Mountain, Nye County, NV, Wait Period Ends: November 25, 2002, Contact: Dr. Jane R. Summerson (800) 947-3477. This document is available on the Internet at: http://(www.ymp.gov).

EIS No. 020429, Draft EIS, BLM, OR, Lookout Mountain Forest and Rangeland Health Project, Baker Resource Management Plan (RMP) Amendment, Visual Resource Management (VRM) Implementation, Baker City, Baker County, OR, Comment Period Ends: January 23, 2003, Contact: Ted Davis (541) 523-1431. This document is available on the Internet at: http://www.or.blm.gov/Vale/Planning/Planning-EnvirnAnalyses.htm.

EIS No. 020430, Draft EIS, FSA, Programmatic EIS-Emergency Conservation Program (ECP), Improvement and Expansion, To Provide Emergency Funding to Farmers and Ranchers, In the Agricultural Lands of the United States, Comment Period End: December 9, 2002, Contact: Don Steck (202) 690-0224. This document is available on the Internet at: http://www.fsa.usda.gov/dafp/cepd/epb/nepa.htm.

EIS No. 020431, Draft EIS, AFS, UT, Duck Creek-Swains Access (Duck/Swains), Management Project, To Improve Wildlife Habitat, Soil and Watershed Conditions, and Management of Motorized Vehicle Use, Dixie National Forest, Cedar City Ranger District, Iron, Garfield and Kane Counties, UT, Comment Period Ends: December 9, 2002, Contact: Priscilla Summers (435) 865-3700.

EIS No. 020432, Final EIS, AFS, MT, Moose Post-Fire Project, Proposal to Decrease Potential Mortality from Bark Beetles to Remaining Live Douglas-fir and Spruce Trees, Recover Merchantable Wood Fiber, Reduce Future Fire Risk and Modify Existing Road Access, Glacier View Ranger District, Flathead National Forest, Flathead County, MT, Wait Period Ends: November 25, 2002, Contact: Michele Draggoo (406) 387-3827.

EIS No. 020433, Draft Supplement, FHW, WA, Elliott Bridge No. 3166 Replacement, Updated and Reevaluated Information, Proposal to Replace the 149th Avenue SE. Crossing the Cedar River, Funding, U.S. CGD Bridge Permit and Section 404 Permit, City of Renton, King County, WA, Comment Period Ends: December 16, 2002, Contact: James A. Leonard (360) 753-9408.

EIS No. 20434, Draft EIS, JUS, CA, Sacramento County Juvenile Hall Expansion Project, To Accommodate 90 new beds in the Short-Term, and 240 new beds in the Long-Term, Sacramento County, CA, Comment Period Ends: December 9, 2002, Contact: Philip Merkle (202) 307-3914. This document is available on the Internet at: http://www.sacpublicworks.net/jjc/hall/index.htm.

EIS No. 020435, Final EIS, FHW, CO, Colorado Forest Highway 80, Guanella Pass Road (also known as Park County Road 62/Clear Creek County Road 381/Forest Development Road 118) from US 285 in Grant to Georgetown, Improvements, Funding and US Army COE Section 404, NPDES and Special Use Permits Issuance, Park and Clear Creek Counties, CO, Wait Period Ends: November 27, 2002, Contact: Richard J. Cushing (303) 716-2138. This FEIS was inadvertently omitted from the 9/27/2002 FR. The CEQ Wait Period is Calculated from 9/27/2002. The FHWA requested an additional 30 days be added to the Wait Period which will end on 11/27/2002.

EIS No. 020436, Draft EIS, FHW, NB, US-81 Highway, Yankton Bridge Replacement, Missouri River Crossing between the City of Yankton, Yankton County, South Dakota and Cedar County, Nebraska, Comment Period Ends: December 9, 2002, Contact: Edward Kosola (402) 437-5521.

EIS No. 020437, Draft EIS, NOA, WA, CA, OR, 2003 Pacific Coast Groundfish Fishery, Proposed Groundfish Acceptable Biological Catch and Optimum Yield Specifications and Management Measures, Implementation, WA, OR and CA, Comment Period Ends: December 9, 2002, Contact: D. Robert Lohn (206) 526-6150.

Amended Notices

EIS No. 020351, Draft EIS, NOA, AK, OR, WA, CA, Programmatic EIS—Pacific Salmon Fisheries Management Plan, Off the Coasts of Southeast Alaska, Washington, Oregon and California, and the Columbia River Basin, Implementation, Magnuson-Stevens Act, AK, WA, OR and CA, Comment Period Ends: November 22, 2002, Contact: D. Robert Lohn (206) 526-6150. Revision of FR Notice Published on 8/23/2002: CEQ Comment Period Ending 10/22/2002 has been Extended to 11/22/2002.

Dated: October 21, 2002.
Joseph C. Montgomery,
Director, NEPA Compliance Division, Office of Federal Activities.

[FR Doc. 02-27263 Filed 10-24-02; 8:45 am]

BILLING CODE 6560-50-P